NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 21, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-013.

1. Applicant: Orla Doherty, BBC Worldwide Americas, 1120 Avenue of the Americas, New York, NY 10036.

Activity for Which Permit is Requested: Harmful Interference, Enter Antarctic Specially Protected Areas (ASPA). The applicant and agents propose to film Antarctic wildlife, natural environments and scientific research being conducted. The resulting footage and photography would be used to create media products including a multi-part series for television. The applicant would film Weddell seals (adults and pups) underwater and on the sea ice with handheld cameras, cameras on tripods, remotely operated vehicles (underwater), pole cameras, remote cameras, and cameras attached to remotely piloted aircraft systems (RPAS; aka small copter drone). Film team members would approach seals slowly, over time, and may get as close as five meters. The applicant proposes to operate the RPAS at a minimum altitude of 23 meters, with the potential to operate at 10 meters above ground level if no disturbance of the seals is noted. Additional observers would be employed when film team members are operating RPAS or handheld gimbal cameras. The applicant also proposes to record seal vocalizations using a hydrophone. The applicant and agents would also film minke whales, killer whales, and Adelie penguins from helicopters and RPAS as well as from the sea ice edge. In addition, while filming by helicopter, the applicant and agents proposes to fly over ASPA 131, Canada Glacier, and ASPA 172 Lower Taylor Valley and Blood Falls. The applicant and agents would adhere to overflight guidance in ASPA management plans. Finally, the applicant proposes to approach Adelie penguins, gentoo penguins, southern giant petrels, south polar skuas, and brown skuas whilst documenting ongoing ecological research in the Antarctic Peninsula. In the course of this filming effort, it is possible that the applicant and agents would enter ASPA 113, Litchfield Island, and ASPA 139, Biscoe Point. The results of this work are expected to be useful for outreach and education about Antarctica and the scientific research conducted there.

Location: ASPA 113, Litchfield Island, Arthur Harbor, Anvers Island, Palmer Archipelago; ASPA 131, Canada Glacier, Lake Fryxell, Taylor Valley, Victoria Land; ASPA 139, Biscoe Point, Anvers Island, Palmer Archipelago; ASPA 172, Lower Taylor Glacier and Blood Falls, Taylor Valley; McMurdo Station area; McMurdo Dry Valleys.

Dates of Permitted Activities: October 11, 2019-February 10, 2020.

Erika N. Davis
Program Specialist, Office of Polar Programs.

[FR Doc. 2019-20359 Filed 9-19-19; 8:45 am]

BILLING CODE 7555-01-P